COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities and deletes product(s) and service(s) previously furnished by such agencies.

DATES: Comments must be received on or before: November 21, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s): 7025-00-NIB-0023—Monitor, Portable, Black, 15″-17″ Laptops

Designated Source of Supply: Asso. for the Blind and Visually Impaired-Goodwill Industries of Greater Rochester, Inc., Rochester, NY

Contracting Activity: DEFENSE LOGISTICS AGENCY, DLA TROOP SUPPORT

Mandatory for: Total Government Requirement

Distribution: A-List

NSN(s)—Product Name(s)

5180-00-NIB-0156—Kit, Pro-Grade Tool, 6 PC

5180-00-NIB-0160—Kit, Pro-Grade Tool, 14 PC

Designated Source of Supply: Industries for the Blind and Visually Impaired, Inc., West Allis, WI

Contracting Activity: FEDERAL ACQUISITION SERVICE, FAS HEARTLAND REGIONAL ADMINISTRATOR

Mandatory for: Broad Government Requirement

Distribution: B-List

Service(s)

Service Type: Facility Support Services

Mandatory for: National Park Service, National Capital Region Office Headquarters, Washington, DC

Designated Source of Supply: Portco, Inc., Portsmouth, VA

Contracting Activity: NATIONAL PARK SERVICE, NCR REGIONAL CONTRACTING(30000)

Service Type: Custodial Service

Mandatory for: FAA, Multiple Locations, Key West, FL

Designated Source of Supply: Mavagi Enterprises, Inc., San Antonio, TX

Contracting Activity: FEDERAL AVIATION ADMINISTRATION, 697DCK REGIONAL ACQUISITIONS SVCS

Service Type: Plant Maintenance Services

Mandatory for: GSA PBS Region 5, Minton-Capehart Federal Building, Indianapolis, IN

Designated Source of Supply: GW Commercial Services, Inc., Indianapolis, IN

Contracting Activity: PUBLIC BUILDINGS SERVICE, PBS R5

Service Type: Administrative Support Service

Mandatory for: USCIS, Corbin Production Facility, Corbin, KY

Designated Source of Supply: PRIDE Industries, Roseville, CA

Contracting Activity: U.S. CITIZENSHIP AND IMMIGRATION SERVICES, USCIS CONTRACTING OFFICE(ERBUR)

Deletions

The following product(s) and service(s) are proposed for deletion from the Procurement List:

Product(s)

NSN(s)—Product Name(s)

8420-01-540-0611—Undershirt, Man's, Navy Blue, XX-Small

8420-01-540-0612—Undershirt, Man's, Navy Blue, X-Small

8420-01-540-0614—Undershirt, Man's, Navy Blue, Small

8420-01-540-1758—Undershirt, Man's, Navy Blue, Medium

8420-01-540-1759—Undershirt, Man's, Navy Blue, Large

8420-01-540-1760—Undershirt, Man's, Navy Blue, X-Large

8420-01-540-1761—Undershirt, Man's, Navy Blue, XX-Large

8420-01-540-1762—Undershirt, Man's, Navy Blue, XXX-Large

Designated Source of Supply: Winston-Salem Industries for the Blind, Inc., Winston-Salem, NC

Contracting Activity: DLA TROOP SUPPORT, PHILADELPHIA, PA

NSN(s)—Product Name(s)

8420-01-540-0611—Undershirt, Man's, Navy Blue, XX-Small

8420-01-540-0612—Undershirt, Man's, Navy Blue, X-Small

8420-01-540-0614—Undershirt, Man's, Navy Blue, Small

8420-01-540-1758—Undershirt, Man's, Navy Blue, Medium

8420-01-540-1759—Undershirt, Man's, Navy Blue, Large

8420-01-540-1760—Undershirt, Man's, Navy Blue, X-Large

8420-01-540-1761—Undershirt, Man's, Navy Blue, XX-Large

8420-01-540-1762—Undershirt, Man's, Navy Blue, XXX-Large

Designated Source of Supply: The Arkansas Lighthouse for the Blind, Little Rock, AR

Contracting Activity: DLA TROOP SUPPORT, PHILADELPHIA, PA

NSN(s)—Product Name(s)

8105-LL-S05-4103—Polyethylene Bag, Hazardous Waste, 36″x48″x.008, Transparent Orange

8105-LL-S05-4108—Polyethylene Bag, 16″x18″x.008, Transparent Green

8105-LL-S05-4110—Polyethylene Bag, 24″x36″x.008, Transparent Green

8105-LL-S05-4111—Polyethylene Bag, 36″x48″x.008, Transparent Green

8105-LL-S05-4113—Polyethylene Bag, Hazardous Waste, 24″x36″x.008, T

8105-LL-S05-4114—Polyethylene Bag, Hazardous Waste, 16″x18″x.008, Transparent Orange

8105-LL-S05-4142—Polyethylene Bag, 24″x10″x48,″ Transparent White

8105-LL-S05-4143—Polyethylene Bag, 24″x10″x36,″ Transparent White

8105-LL-S05-4107—Polyethylene Bag, 24″x48″x.008, Transparent Green

Designated Source of Supply: Open Door Center, Valley City, ND

Contracting Activity: DLA MARITIME—PUGET SOUND, BREMERTON, WA

NSN(s)—Product Name(s): 8105-LL-S05-4109—Polyethylene Bag, 14″x48″x.008, Transparent Green

Designated Source of Supply: Open Door Center, Valley City, ND

Contracting Activity: DLA MARITIME—PUGET SOUND, BREMERTON, WA

NSN(s)—Product Name(s)

8105-LL-S04-8618—Bag, Polyethylene, Landfill Controlled Waste, 36″W x 48″L, Opaque Green

8105-LL-S04-8619—Bag, Polyethylene, Landfill Controlled Waste, 24″W x 48″L, Opaque Green

8105-LL-S04-8620—Bag, Polyethylene, Landfill Controlled Waste, 14″W x 48″L, Opaque Green

8105-LL-S04-9831—Bag, Polyethylene, Landfill Controlled Waste, 24″W x 36″L, Opaque Green

8105-LL-S05-0760—Bag, Polyethylene, Landfill Controlled Waste, 16″W x 18″L, Opaque Green

Designated Source of Supply: Open Door Center, Valley City, ND

Contracting Activity: DLA MARITIME—PUGET SOUND, BREMERTON, WA

Service(s)

Service Type: Mailroom Operation

Mandatory for: Department of Health and Human Services: Program Support Center Headquarters, Dallas, TX

Designated Source of Supply: Dallas Lighthouse for the Blind, Inc., Dallas, TX

Contracting Activity: HEALTH AND HUMAN SERVICES, DEPARTMENT OF, DEPT OF HHS

Service Type: Janitorial/Custodial

Mandatory for: VA Medical Center: Dental Laboratory, Washington, DC

Designated Source of Supply: Columbia Lighthouse for the Blind, Washington, DC

Contracting Activity: VETERANS AFFAIRS, DEPARTMENT OF, NAC

Service Type: Water System Hydrant Maintenance

Mandatory for: US Army, Joint Base Lewis-McChord, Joint Base Lewis-McChord, WA 2140 Liggett Avenue Joint Base Lewis-McChord, WA

Designated Source of Supply: Skookum Educational Programs, Bremerton, WA

Contracting Activity: DEPT OF THE ARMY, W6QM MICC-JB LEWIS-MC CHORD

Michael R. Jurkowski,
Acting Director, Business Operations.

[FR Doc. 2021-23079 Filed 10-21-21; 8:45 am]

BILLING CODE 6353-01-P